NUCLEAR REGULATORY COMMISSION

10 CFR Part 20

[NRC-2015-0286]

Operating Philosophy for Maintaining Occupational and Public Radiation Exposures as Low as Is Reasonably Achievable

AGENCY: Nuclear Regulatory Commission.

ACTION: Regulatory guide; issuance.

SUMMARY: The U.S. Nuclear Regulatory Commission (NRC) is issuing Revision 2 to Regulatory Guide (RG) 8.10, “Operating Philosophy for Maintaining Occupational Radiation Exposures as Low as is Reasonably Achievable.” This revision describes methods and procedures that the NRC staff considers acceptable for maintaining radiation exposures to employees and the public as low as is reasonably achievable (ALARA).

DATES: Revision 2 to RG 8.10 is available on August 11, 2016.

ADDRESSES: Please refer to Docket ID NRC-2015-0286 when contacting the NRC about the availability of information regarding this document. You may obtain publically-available information related to this document using the following methods:

• Federal rulemaking Web site: Go to http://www.regulations.gov and search for Docket ID NRC-2015-0286. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. Revision 2 to RG 8.10 and the regulatory analysis may be found in ADAMS under Accession Nos. ML16105A136 and ML15203B408, respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Casper Sun, telephone: 301-415-1646, email: Casper.Sun@nrc.gov; and Harriet Karagiannis, telephone: 301-415-2493; email: Harriet.Karagiannis@nrc.gov. Both are staff of the Office of Nuclear Regulatory Research, U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 2 of RG 8.10 was issued with a temporary identification of Draft Regulatory Guide, DG-8033. Revision 2 addresses changes identified since Revision 1 was issued in September 1975 (the NRC issued Revision 1-R in May 1977). In 1991, the NRC promulgated amendments to part 20 of title 10 of the Code of Federal Regulations (CFR) (56 FR 23360; May 21, 1991). The 1991 rulemaking included substantive amendments to 10 CFR part 20 as well as a renumbering of those regulations. As such, this revision to the regulatory guide aligns with the regulatory structure of current 10 CFR part 20 by updating the regulatory guide's 10 CFR part 20 cross-references.

In addition, this revision includes additional guidance from operating ALARA experience since 1975. It provides more details describing management responsibilities to ensure commitment to ALARA.

II. Additional Information

The NRC published a notice of availability of DG-8033 in the Federal Register on December 24, 2015 (80 FR 80395), for a 60-day public comment period. The public comment period closed on February 22, 2016. The public comments on DG-8033 and the NRC staff responses to the public comments are available in ADAMS under Accession Number ML16105A137.

III. Congressional Review Act

This regulatory guide is a rule as defined in the Congressional Review Act (5 U.S.C. 801-808). However, the Office of Management and Budget has not found it to be a major rule as defined in the Congressional Review Act.

IV. Backfitting

This regulatory guide provides updated guidance on the methods acceptable to the NRC staff for complying with the NRC's regulations associated with ALARA. The regulatory guide applies to current and future applicants for, and holders of:

• Operating licenses for nuclear power reactors under 10 CFR part 50.

• approvals issued under subpart B, C, E, and F of 10 CFR part 52 (“protected applicants and licensees”).

• licenses issued under 10 CFR part 70 to possess or use, at any site or contiguous sites subject to licensee control, a formula quantity of strategic special nuclear material, as defined in 10 CFR 70.4.

• operating licenses for nuclear non-power reactors under 10 CFR part 50.

• specific domestic licenses to manufacture or transfer certain items containing byproduct material under 10 CFR part 32.

• specific domestic licenses of broad scope for byproduct material under 10 CFR part 33.

• licenses for industrial radiography under 10 CFR part 34.

• licenses for medical use of byproduct material under 10 CFR part 35.

• licenses for irradiators under 10 CFR part 36.

• licenses for well logging under 10 CFR part 39.

• licenses for source material under 10 CFR part 40.

• certificates of compliance for packaging of radioactive material under 10 CFR part 71.

• licenses for independent spent fuel storage installations under 10 CFR part 72.

The backfitting provisions in 10 CFR 50.109, 70.76, and 72.62, and the issue finality provisions in 10 CFR part 52 do not apply to holders of licenses under 10 CFR parts 31, 32, 33, 34, 35, 36, 39, 40, or 71, or to holders of licenses for non-power reactors under 10 CFR part 50, unless those licensees also have an NRC regulatory approval under 10 CFR parts 50 or 52 (for a nuclear power reactor), 70, or 72. In addition, the issuance of this regulatory guide would not constitute backfitting under 10 CFR 50.109, 70.76, or 72.62, and would not otherwise be inconsistent with the issue finality provisions in 10 CFR part 52. As discussed in the “Implementation” section of this regulatory guide, the NRC has no intention of initiating any regulatory action that would require the use of this regulatory guide by current holders of 10 CFR part 50 operating licenses, 10 CFR part 52, subpart B, C, E, or F approvals, 10 CFR part 70 licenses, or 10 CFR part 72 licenses.

If a licensee protected by a backfitting or issue finality provision (a “protected licensee”) voluntarily seeks a license amendment or change, and (1) the NRC staff's consideration of the request involves a regulatory issue directly relevant to this revised regulatory guide and (2) the specific subject matter of this regulatory guide is an essential consideration in the NRC staff's determination of the acceptability of the licensee's request, then the NRC staff may request that the licensee either follow the guidance in this regulatory guide or provide an equivalent alternative process that demonstrates compliance with the underlying NRC regulatory requirements. Such a request by NRC staff is not considered backfitting as defined in 10 CFR 50.109(a)(1), 70.76(a)(1), or 72.62(a), or a violation of any applicable finality provisions in 10 CFR part 52.

If a protected licensee believes that the NRC is either using this regulatory guide or requesting or requiring the protected licensee to implement the methods or processes in this regulatory guide in a manner inconsistent with the discussion in the Implementation section of this regulatory guide, then the protected licensee may file a backfit appeal with the NRC in accordance with the guidance in NRC Management Directive 8.4, “Management of Facility-Specific Backfitting and Information Collection” (ADAMS Accession No. ML12059A460); and NUREG-1409, “Backfitting Guidelines” (ADAMS Accession No. ML032230247).

Dated at Rockville, Maryland, this 3rd day of August, 2016.
For the Nuclear Regulatory Commission.
Thomas H. Boyce,
Chief, Regulatory Guidance and Generic Issues Branch, Division of Engineering, Office of Nuclear Regulatory Research.

[FR Doc. 2016-18767 Filed 8-10-16; 8:45 am]

BILLING CODE 7590-01-P